DEPARTMENT OF JUSTICE

Antitrust Division

Notice Pursuant to the National Cooperative Research and Production Act of 1993—DVD Copy Control Association

Notice is hereby given that, on February 6, 2015, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, Azend Group Corporation, Chino, CA, has been added as a party to this venture.

Also, AMZ Midia Industrial S/A, Barueri, Brazil; AVT International Limited, Kowloon, Hong Kong-China; Bang & Olufsen A/S, Struer, Denmark; Diamondking Inc., Chino, CA; DVS Korea Company, Sungnam-si, Kyunggi-do, Republic of Korea; Eclipse Data Technologies, Pleasanton, CA; Hitachi Ltd., Tokyo, JAPAN; Hong Kong ASA Multimedia Co., Ltd., Kowloon, Hong Kong-China; Korea Mikasa Corporation, Seoul, Republic of Korea; Marubun Corporation, Tokyo, Japan; MediaCore, Inc., Gyeonggi-Do, Republic of Korea; and Ngai Lik Digital Limited, Kowloon, Hong Kong-China, have withdrawn as parties to this venture.

In addition, the following members have changed their names: Entertainment Distribution Company GmbH to EDC GmbH, Langenhagen, Germany; KDG to Media Industry, Sainte-Marguerite, France; and Silicon Application Company Limited to Silicon Application Corp., Shenzhen, People's Republic of China.

No other changes have been made in either the membership or planned activity of the group research project. Membership in this group research project remains open, and DVD CCA intends to file additional written notifications disclosing all changes in membership.

On April 11, 2001, DVD CCA filed its original notification pursuant to Section 6(a) of the Act. The Department of Justice published a notice in the Federal Register pursuant to Section 6(b) of the Act on August 3, 2001 (66 FR 40727).

The last notification was filed with the Department on September 4, 2014. A notice was published in the Federal Register pursuant to Section 6(b) of the Act on September 30, 2014 (79 FR 58806).

Patricia A. Brink,
Director of Civil Enforcement, Antitrust Division.

[FR Doc. 2015-05665 Filed 3-11-15; 8:45 am]

BILLING CODE P